SECURITIES AND EXCHANGE COMMISSION

Agency Meetings

Notice is hereby given, pursuant to the provisions of the Government in the Sunshine Act, Pub. L. 94-409, that the Securities and Exchange Commission will hold the following meetings during the week of April 3, 2000.

An open meeting will be held on Wednesday, April 5, 2000 at 10:00 a.m. in Room 6600.

The subject matters of the open meeting scheduled for Wednesday, April 5, at 10:00 a.m. in Room 6600 will be:

(1) The Commission will consider whether to propose rule amendments and new rules to (i) require investment advisers to submit their investment adviser filings on an electronic filing system, currently being developed by the Commission and the state securities authorities; (ii) substantially update and revise Form ADV to accommodate electronic filing; and (iii) require advisers to deliver to clients a narrative brochure written in plain English. The Commission and the state securities authorities are creating an Internet-based system of electronic filing for investment advisers. The system is called the Investment Adviser Registration Depository (IARD) and will permit investment advisers to satisfy filing obligations under state and federal laws by making a single electronic filing. Information contained in filings made through the IARD will be stored in a database that members of the public will be able to access free of charge through the Internet. The IARD is being built and will be operated for the Commission by NASD Regulation, Inc. (NASDR). For further information, please contact: Lori H. Price at (202) 942-0716.

(2) The Commission will hear oral argument on appeals by Marc N. Geman and the Division of Enforcement from an administrative law judge's initial decision imposing sanctions on Geman. For further information, contact Kermit Kennedy at (202) 942-0950.

Closed meetings will be held on Wednesday, April 5, 2000, following the 10:00 a.m. open meeting and on Thursday, April 6, 2000 at 11:00 a.m.

Commissioners, Counsel to the Commissioners, the Secretary to the Commission, and recording secretaries will attend the closed meeting. Certain staff members who have an interest in the matters may also be present.

The General Counsel of the Commission, or his designee, has certified that, in his opinion, one or more of the exemptions set forth in 5 U.S.C. 552b(c)(4), (8), (9)(A) and (10), and 17 CFR 200.402(a)(4), (8), (9)(A) and (10), permit consideration for the scheduled matters at the closed meeting.

Commissioner Unger, as duty officer, voted to consider the items listed for the closed meeting in a closed session.

The subject matter of the closed meeting scheduled for Wednesday, April 5, 2000, following the 10:00 a.m. open meeting, will be: Post oral argument discussion.

The subject matter of the closed meeting scheduled for Thursday, April 6, 2000, at 11:00 a.m. will be: Institution and settlement of injunctive actions; and Institution and settlement of administrative proceedings of an enforcement nature.

At times, changes in Commission priorities require alterations in the scheduling of meeting items. For further information and to ascertain what, if any, matters have been added, deleted or postponed, please contact:

The Office of the Secretary at (202) 942-7070.

Dated: March 29, 2000.
Margaret H. McFarland,
Deputy Secretary.

[FR Doc. 00-8216 Filed 3-30-00; 11:36 am]

BILLING CODE 8010-01-M